ENVIRONMENTAL PROTECTION AGENCY

[ER-FRL-6619-6]

Environmental Impact Statements; Notice of Availability

Responsible Agency: Office of Federal Activities, General Information (202) 564-7167 www.epa.gov/oeca/ofa

Weekly receipt of Environmental Impact Statements

Filed June 25, 2001 Through June 29, 2001

Pursuant to 40 CFR 1506.9.

EIS No. 010238, Final EIS, AFS, OR, Tower Fire Recovery Project, Restoration and Salvage, Implementation, Umatilla National Forest, North Fork John Day Ranger District, Umatilla and Grant Counties, OR, Due: August 06, 2001, Contact: Janel Lacey (541) 427-5394.

EIS No. 010237, Final Supplement, JUS, TX, AZ, NM, CA, Programmatic—Final Supplemental EIS US Naturalization Service (INS) and US Joint Task Force-Six (JTF-6) Activities Along the US/Mexico Border from Brownsville Texas to San Diego, California, Due: August 06, 2001, Contact: Eric Verwers (817) 978-0202.

EIS No. 010239, Draft EIS, FHW, AL, Memphis to Atlanta Corridor, To Construct from I65 in North Central Alabama Eastward to the Georgia State Line, COE Section 404, US Coast Guard and NPDES Permits, Limestone, Morgan, Madison, Jackson, Marshall, Dekalb and Cherokee Counties, AL, Due: August 20, 2001, Contact: Joe D. Wilkerson (334) 223-7370.

EIS No. 010240, Draft EIS, SFW, WA, Icicle Creek Restoration Creek Project, To Protect and Aid in the Recovery of Threatened and Endangered Fish, Leavenworth National Fish Hatchery (LNFH), COE Section 404 and NPDES Permits, Leavenworth, WA, Due: August 20, 2001, Contact: Anne Badgley (509) 548-7641.

Dated: July 2, 2001.
Ken Mittelholtz,
Environmental Protection Specialist, Office of Federal Activities.

[FR Doc. 01-16941 Filed 7-5-01; 8:45 am]

BILLING CODE 6560-50-P